DEPARTMENT OF ENERGY

[DOE Docket No. PP-362-1]

Application To Rescind Presidential Permit; Application for Presidential Permit; Champlain Hudson Power Express, Inc. and CHPE, LLC

AGENCY: Office of Electricity, Department of Energy.

ACTION: Notice of application.

SUMMARY: Champlain Hudson Power Express, Inc. (CHPEI) and CHPE, LLC (together, the Applicants) have filed a joint application to voluntarily transfer ownership of the facilities owned by CHPEI and authorized for cross-border electric power transmission by Presidential Permit No. PP-362, to CHPE, LLC. The application requests that the Department of Energy (DOE) rescind the Presidential permit held by CHPEI and simultaneously issue a permit to CHPE, LLC covering the same international transmission facilities.

DATES: Comments, protests, or motions to intervene must be submitted on or before May 18, 2020.

ADDRESSES: Comments or motions to intervene should be addressed to Christopher Lawrence, Christopher.Lawrence@hq.doe.gov.

FOR FURTHER INFORMATION CONTACT: Christopher Lawrence (Program Office) at 202-586-5260 or by email to Christopher.Lawrence@hq.doe.gov, or Christopher Drake (Attorney-Adviser) at 202-586-2919 or by email to Christopher.Drake@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On April 6, 2020, the Applicants filed an application with the Office of Electricity of the Department of Energy (DOE), as required by regulations at 10 CFR 205.320 et seq., requesting DOE to amend or, in the alternative, rescind and reissue Presidential Permit No. PP-362 to enable the transfer of the permit from CHPEI to its affiliate CHPE, LLC.

On October 6, 2014, DOE issued Presidential Permit No. PP-362, authorizing CHPEI to construct, operate, and maintain the Champlain Hudson Power Express Project (Project). As described in PP-362, the Project is a 1,000 Megawatt (MW), high-voltage direct current (HVDC), underground and underwater merchant transmission system that will cross the United States-Canada international border underwater near the Town of Champlain, New York, extend approximately 336 miles south through New York State, and interconnect to facilities located in Queens County, New York owned by the Consolidated Edison Company of New York. The aquatic segments of the transmission line will primarily be submerged in Lake Champlain and the Hudson, Harlem, and East rivers. The terrestrial portions of the transmission line will primarily be buried in existing road and railroad rights-of-way (ROW).

Since the issuance of PP-362 in 2014, the upstream owners of CHPEI have created a new affiliated entity, CHPE, LLC, that will —subject to regulatory approvals—construct, operate, and maintain the Project. The Project's upstream owners intend that the assets of CHPEI will be transferred to CHPE, LLC.

Procedural Matters: Any person may comment on this application by filing such comment at the address provided above. Any person seeking to become a party to this proceeding must file a motion to intervene at the address provided above in accordance with Rule 214 of FERC's Rules of Practice and Procedure (18 CFR 385.214). Two (2) copies of each comment or motion to intervene should be filed with DOE on or before the date listed above.

Comments and other filings concerning this application should be clearly marked with OE Docket No. PP-362-1. Additional copies are to be provided directly to Mr. Donald Jessome, Chief Executive Officer, Transmission Developers Inc., Pieter Schuyler Building, 600 Broadway, Albany, New York 12207-2283, donald.jessome@transmissiondevelopers.com and

Jay Ryan, Baker Botts L.L.P., 700 K Street, NW, Washington, DC 20001, jay.ryan@bakerbotts.com.

Before a Presidential permit may be issued or amended, DOE must determine that the proposed action is in the public interest. In making that determination, DOE will consider the environmental impacts of the proposed action (i.e., granting the Presidential permit or amendment, with any conditions and limitations, or denying the permit) pursuant to the National Environmental Policy Act of 1969, as amended, and determine the project's impact on electric reliability by ascertaining whether the proposed project would adversely affect the operation of the U.S. electric power supply system under normal and contingency conditions, and any other factors that DOE may also consider relevant to the public interest. DOE also must obtain the favorable recommendation of the Secretary of State and the Secretary of Defense before taking final action on a Presidential permit application.

This application may be reviewed or downloaded electronically at http://energy.gov/oe/services/electricity-policy-coordination-and-implementation/international-electricity-regulatio-2. Upon reaching the home page, select “Pending Applications.”

Signed in Washington, DC, on April 10, 2020.
Christopher Lawrence,
Management and Program Analyst, Transmission Permitting and Technical Assistance, Office of Electricity.

[FR Doc. 2020-07971 Filed 4-15-20; 8:45 am]

BILLING CODE 6450-01-P